DEPARTMENT OF DEFENSE

Department of the Army

[Docket ID: USA-2019-HQ-0006]

Submission for OMB Review; Comment Request

AGENCY: Department of the Army, DoD.

ACTION: 30-Day information collection notice.

SUMMARY: The Department of Defense has submitted to OMB for clearance the following proposal for collection of information under the provisions of the Paperwork Reduction Act.

DATES: Consideration will be given to all comments received by May 16, 2019.

ADDRESSES: Comments and recommendations on the proposed information collection should be emailed to Vlad Dorjets, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION: Title; Associated Form; and OMB Number: Corps of Engineers Flood Risk Management Surveys; OMB Control Number 0710-0017.

Type of Request: Extension.

Number of Respondents: 3,000.

Responses per Respondent: 1.

Annual Responses: 3,000.

Average Burden per Response: 36.5 minutes.

Annual Burden Hours: 1,825.

Needs and Uses: The data obtained from these surveys are used by the Army Corps of Engineers to more effectively provide flood risk management to communities, residents, and businesses at risk of flooding. The data are needed for estimating damage relationships for factors such as depth of flooding for different types of buildings and different occupancies of uses. The data are also used for estimating other costs of flooding. Results of surveys will help communities to better determine and communicate their flood risks. The models are also used for programmatic evaluation of the Corps' National Flood Risk Management Program.

Affected Public: Residents, property owners, business, nongovernmental organizations, Local Governments.

Frequency: On occasion.

Respondent's Obligation: Voluntary.

OMB Desk Officer: Mr. Vlad Dorjets.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: April 10, 2019.
Aaron T. Siegel,
Alternate OSD Federal Register Liaison Officer, Department of Defense.

[FR Doc. 2019-07495 Filed 4-15-19; 8:45 am]

BILLING CODE 5001-06-P